COMMISSION ON CIVIL RIGHTS

Agenda and Notice of Public Meeting of the South Carolina Advisory Committee

Notice is hereby given, pursuant to the provisions of the rules and regulations of the U.S. Commission on Civil Rights (Commission) and the Federal Advisory Committee Act (FACA) that a planning meeting of the South Carolina Advisory Committee (Committee) to the Commission will be held on Friday, February 24, 2012, at the South Carolina School of Law, 701 South Main Street, Columbia, South Carolina 29208. The meeting is scheduled to begin at 10 a.m. and adjourn at approximately noon. The purpose of the meeting is for Committee members to consider a report on school discipline.

Members of the public are entitled to submit written comments. The comments must be received in the Southern Regional Office of the Commission by March 23, 2012. The address is Southern Regional Office, U.S. Commission on Civil Rights, 61 Forsyth Street, Suite 16T126, Atlanta, GA 30303. Persons wishing to email their comments, or to present their comments verbally at the meeting, or who desire additional information should contact Peter Minarik, Regional Director, Southern Regional Office, at (404) 562-7000, (or for hearing impaired TDD (800) 877-8339), or by email klee@usccr.gov. Hearing-impaired persons who will attend the meeting and require the services of a sign language interpreter should contact the Regional Office at least ten (10) working days before the scheduled date of the meeting.

Records generated from this meeting may be inspected and reproduced at the Southern Regional Office, as they become available, both before and after the meeting. Persons interested in the work of this advisory committee are advised to go to the Commission's Web site, www.usccr.gov, or to contact the Southern Regional Office at the above email or street address. The meeting will be conducted pursuant to the provisions of the rules and regulations of the Commission and FACA.

Dated in Washington, DC, January 25, 2012.
Peter Minarik,
Acting Chief, Regional Programs Coordination Unit.

[FR Doc. 2012-1895 Filed 1-27-12; 8:45 am]

BILLING CODE 6335-01-P